DEPARTMENT OF AGRICULTURE

Agricultural Marketing Service

[Document Number AMS-NOP-12-0011; NOP-12-05]

National Organic Program Notice of Request for New Information Collection

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget for a new information collection: National Organic Program (NOP); NOP Import Certificate.

DATES: Comments on this notice must be received by May 21, 2012 to be assured of consideration.

ADDRESSES: Interested parties are invited to submit written comments concerning this notice. Comments may be sent to Meg Kuhn, Agricultural Marketing Specialist, National Organic Program, AMS/USDA, 1400 Independence Ave. SW., Room 2646-So., Ag Stop 0268, Washington, DC 20250-0268, or by Internet: http://www.regulations.gov. Written comments responding to this notice should be identified with the document number AMS-NOP-12-0011; NOP-12-05. It is USDA's intention to have all comments concerning this notice, including names and addresses when provided, regardless of submission procedure used, available for viewing on the Regulations.gov Internet site (http://www.regulations.gov). Comments submitted in response to this notice will also be available for viewing in person at USDA/AMS/National Organic Program, 1400 Independence Ave. SW., Room 2646-So., Ag Stop 0268, Washington, DC 20250 from 9 a.m. to 12 noon and from 1 p.m. to 4 p.m. Monday through Friday (except official Federal holidays). Persons wanting to visit the USDA South Building to view comments received in response to this notice are requested to make an appointment in advance by calling (202) 720-3252.

FOR FURTHER INFORMATION CONTACT: Cheri Courtney, Acting Director, Accreditation and International Activities Division, Telephone: (202) 720-3252; Fax: (202) 205-7808.

SUPPLEMENTARY INFORMATION: Title: National Organic Program (NOP); NOP Import Certificate.

OMB Number: 0581-NEW.

Expiration Date of Approval: Three years from OMB approval date.

Type of Request: New information collection.

Abstract: The National Organic Program regulates the use of the term “organic,” on agricultural products sold in the United States per 7 CFR part 205. On February 15, 2012, the U.S. Department of Agriculture (USDA) and the European Union Commission signed an organic equivalence arrangement.¹ Beginning June 1, 2012, this partnership will allow organic products produced, processed or packaged in the United States (U.S.) or European Union (EU) to be sold as “organic” in both countries without additional certification. Leading up to the signing of the arrangement, USDA and EU officials conducted thorough on-site audits to ensure that their programs' regulations, quality control measures, certification requirements, and labeling practices were compatible. USDA determined that EU organic products are produced and handled under an organic certification program that provides safeguards and guidelines that are at least equivalent to the requirements set forth in the Organic Foods Production Act of 1990 (7 U.S.C. 6501-6522).

¹ Details including the scope, requirements and documentation for the EU-U.S. Organic Equivalency Arrangement are available on the NOP Web site at: http://www.ams.usda.gov/NOPTradeEuropeanUnion.

Prior to June 1, 2012, EU organic producers and handlers wishing to export organic products to the U.S. must obtain certification by an NOP-accredited certifying agent. After the EU-U.S. Organic Equivalence Arrangement becomes effective on June 1, 2012, these additional certification requirements are no longer necessary. Instead, the terms of the equivalency arrangement require that EU organic products be accompanied by an NOP Import Certificate.

EU designated certification entities. Each EU Member State has designated a number of public authorities and/or approved private certification agencies to carry out organic certification under the EU organic standards. These EU designated certification entities operate under the supervision of the central competent authorities of the Member States. There are 205 EU designated certification entities operating in the 27 EU Member States.

NOP Import Certificate. An NOP Import Certificate issued by an EU designated certification entity must accompany each shipment of organic product from the EU to the U.S. This certificate documents that the organic products were certified under the EU organic regulations and met the terms of the equivalency arrangement for export to the U.S. The terms of the arrangement include: (1) Agricultural products derived from animals treated with antibiotics cannot be marketed as organic in the U.S.; (2) Aquatic animals (e.g., fish, shellfish) are not included within the scope of the arrangement; and (3) The arrangement is limited to organic products certified under the EU organic system and either grown in the EU, produced in the EU, or where the final processing or packaging occurs in the EU. Under the terms of the EU-U.S. Organic Equivalency Arrangement, we estimate that EU designated certification entities will issue 4,010 NOP Import Certificates annually or 20 NOP Import Certificates per entity.

Estimate of Burden: Public reporting burden for this collection of information is estimated to average 0.25 hours per response.

Respondents: EU Designated Certification Entities.

Estimated Number of Respondents: 205 respondents.

Estimated Total Annual Responses: 4,010 responses.

Estimated Number of Responses per Respondent: 20 responses per respondent.

Estimated Total Annual Burden on Respondents: 1,002.5 hours.

Recordkeeping Burden

Estimate of Burden: Public recordkeeping burden is estimated to be an annual total of approximately 0.33 hours per respondent.

Respondents: EU Designated Certification Entities.

Estimated Number of Respondents: 205.

Estimated Number of Responses per Respondent: 20.

Estimated Total Annual Burden on Respondents: 65.60 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Meg Kuhn, Agricultural Marketing Specialist, National Organic Program, AMS/USDA, 1400 Independence Ave. SW., Room 2646-So., Ag Stop 0268, Washington, DC 20250-0268, or by Internet: http://www.regulations.gov. Written comments responding to this notice should be identified with the document number AMS-NOP-12-0011; NOP-12-05. All comments received will be available for public inspection during regular business hours at the same address.

All responses to this notice will be summarized and included in the request for OMB approval. All comments will become a matter of public record.

Authority: 7 U.S.C. 6501-6522.

Dated: March 16, 2012.
Ruihong Guo,
Acting Administrator, Agricultural Marketing Service.

[FR Doc. 2012-6906 Filed 3-21-12; 8:45 am]

BILLING CODE 3410-02-P